COMMITTEE FOR PURCHASE FROM PEOPLE WHO ARE BLIND OR SEVERELY DISABLED

Procurement List; Proposed Additions And Deletions

AGENCY: Committee for Purchase from People Who Are Blind or Severely Disabled.

ACTION: Proposed Additions to and Deletions from Procurement List.

SUMMARY: The Committee is proposing to add to the Procurement List a product and services to be furnished by nonprofit agencies employing persons who are blind or have other severe disabilities, and to delete products previously furnished by such agencies.

Comments Must be Received on or Before: May 7, 2006.

ADDRESSES: Committee for Purchase From People Who Are Blind or Severely Disabled, Jefferson Plaza 2, Suite 10800, 1421 Jefferson Davis Highway, Arlington, Virginia 22202-3259.

For Further Information or to Submit Comments Contact: Sheryl D. Kennerly, Telephone: (703) 603-7740, Fax: (703) 603-0655, or e-mail SKennerly@jwod.gov.

SUPPLEMENTARY INFORMATION: This notice is published pursuant to 41 U.S.C 47(a) (2) and 41 CFR 51-2.3. Its purpose is to provide interested persons an opportunity to submit comments on the proposed actions.

Additions

If the Committee approves the proposed additions, the entities of the Federal Government identified in this notice for each product or service will be required to procure the product and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. 46-48c) in connection with the product and services proposed for addition to the Procurement List.

Comments on this certification are invited. Commenters should identify the statement(s) underlying the certification on which they are providing additional information.

End of Certification

The following product and services are proposed for addition to Procurement List for production by the nonprofit agencies listed:

Product

Product/NSN: Notebook Security Cable.

NSN: 5340-01-384-2016—Notebook Security Cable.

NPA: Alphapointe Association for the Blind, Kansas City, Missouri.

Contracting Activity: GSA, Southwest Supply Center, Fort Worth, Texas.

Services

Service Type/Location: Base Supply Store, Hazmart & Self Help Operations, Building 4406, Fort Hood, Texas.

NPA: San Antonio Lighthouse for the Blind, San Antonio, Texas.

Contracting Activity: Army Contract Agency, Fort Hood, Texas.

Service Type/Location: Custodial Services, Transportation Security Administration, Rafael Hernandez Airport, Ave. Ing. Alarcon Rodriquez Hanger #405, Aguadilla, Puerto Rico.

NPA: The Corporate Source, Inc., New York, New York.

Contracting Activity: GSA, Caribbean Property Management Center, Hato Rey, Puerto Rico.

Service Type/Location: Custodial Services, U.S. Geological Survey, Columbia River Research Lab, 5501-A Cook-Underwood Road, Cook, Washington.

NPA: Hood River Sheltered Workshop, Hood River, Oregon.

Contracting Activity: U.S. Geological Survey, Sacramento, California.

Service Type/Location: Grounds Maintenance, Internal Revenue Service, Fresno Campus, 5045 E. Butler Avenue, Fresno, California.

NPA: Valley Service Connection, Inc., Stockton, California.

Contracting Activity: U.S. Treasury, IRS, San Francisco, California.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Product/NSN: Brush, Plater's, Hand.

NSN: 7920-00-267-1213—Brush, Platers, Hand.

NPA: Industries for the Blind, Inc., Milwaukee, Wisconsin.

Contracting Activity: GSA, Southwest Supply Center, Fort Worth, Texas.

Product/NSN: Staff Section.

NSN: 1015-00-699-0633—Staff Section.

NSN: 1025-00-563-7232—Staff Section.

NSN: 1010-00-225-4906—Staff Section.

NPA: Montgomery County Chapter, NYSARC, Inc., Amsterdam, New York.

Contracting Activity: Defense Supply Center Columbus, Columbus, Ohio.

Sheryl D. Kennerly,
Director, Information Management.

[FR Doc. E6-5078 Filed 4-6-06; 8:45 am]

BILLING CODE 6353-01-P